DEPARTMENT OF TRANSPORTATION

Federal Aviation Administration

14 CFR Part 39

[Docket No. FAA-2012-0808; Directorate Identifier 2010-NM-170-AD; Amendment 39-17380; AD 2013-05-08]

RIN 2120-AA64

Airworthiness Directives; Airbus Airplanes

AGENCY: Federal Aviation Administration (FAA), DOT.

ACTION: Final rule; correction.

SUMMARY: The FAA is correcting airworthiness directive (AD) 2013-05-08 that published in the Federal Register. AD 2013-05-08 applies to all Airbus Model A330-200 and A330-300 series airplanes, and Model A340-200 and A340-300 series airplanes. Two paragraphs of AD 2013-05-08 incorrectly specify flight control secondary computers (FCSCs), rather than flight control primary computers (FCPCs). This document corrects those errors. In all other respects, the original document remains the same.

DATES: This final rule is effective August 29, 2013. The effective date for AD 2013-05-08, Amendment 39-17380 (78 FR 27015, May 9, 2013), remains June 13, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION: Airworthiness Directive (AD) 2013-05-08, Amendment 39-17380 (78 FR 27015, May 9, 2013), currently requires, depending on airplane configuration, modifying three flight control primary computers (FCPCs); modifying two flight control secondary computers (FCSCs); revising the airplane flight manual (AFM) to include certain information; replacing certain O-rings; and checking part number and replacing certain O-ring seals if needed.

As published, AD 2013-05-08, Amendment 39-17380 (78 FR 27015, May 9, 2013), currently includes typographical errors in paragraphs (p)(4) and (p)(5) of the AD, which specify FCSCs, instead of flight control primary computers FCPCs.

No other part of the preamble or regulatory information has been changed; therefore, only the changed portion of the final rule is being published in the Federal Register.

The effective date of AD 2013-05-08, Amendment 39-17380 (78 FR 27015, May 9, 2013), remains June 13, 2013.

Correction of Regulatory Text

§ 39.13 [Corrected]

In the Federal Register of May 9, 2013, on page 27019, in the third column, paragraphs (p)(4) and (p)(5) of AD 2013-05-08, Amendment 39-17380 (78 FR 27015, May 9, 2013), are corrected to read as follows:

* * * * *

(4) This paragraph provides credit for modification or replacement of the FCPCs specified in paragraph (o)(1) of this AD, if those actions were performed before the effective date of this AD using Airbus Mandatory Service Bulletin A330-27-3176, dated July 26, 2011; or Airbus Mandatory Service Bulletin A330-27-3176, Revision 01, dated March 27, 2012 (for Model A330 airplanes).

* * * * *

(5) This paragraph provides credit for modification or replacement of the FCPCs specified in paragraph (o)(4) of this AD, if those actions were performed before the effective date of this AD using Airbus Mandatory Service Bulletin A340-27-4162, dated January 10, 2012 (for Model A340 airplanes).

* * * * *

Issued in Renton, Washington, on August 21, 2013.
Stephen P. Boyd,
Acting Manager, Transport Airplane Directorate, Aircraft Certification Service.

[FR Doc. 2013-21078 Filed 8-28-13; 8:45 am]

BILLING CODE 4910-13-P